DEPARTMENT OF TRANSPORTATION

Office of the Secretary

Aviation Proceedings, Agreements Filed the Week Ending June 30, 2006

The following Agreements were filed with the Department of Transportation under the sections 412 and 414 of the Federal Aviation Act, as amended (49 U.S.C. 1382 and 1384) and procedures governing proceedings to enforce these provisions. Answers may be filed within 21 days after the filing of the application.

Docket Number: OST-2006-25255.

Date Filed: June 28, 2006.

Parties: Members of the International Air Transport Association.

Subject:

Mail Vote 494—Resolution 010s

TC31 North & Central Pacific

Between TC3 (except Japan) and North America, Caribbean

Special Passenger Amending Resolution

From Hong Kong SAR, Macao SAR to North America, Caribbean (Memo 0365).

Intended effective date: July 13, 2006.

Docket Number: OST-2006-25285.

Date Filed: June 30, 2006.

Parties: Members of the International Air Transport Association.

Subject:

PTC COMP Mail Vote 495—Resolution 010t

PTC3/23/31/123 Special Amending Resolution—Sri Lanka (Memo 1323).

Intended effective date: October 1, 2006.

Renee V. Wright,
Program Manager, Docket Operations, Federal Register Liaison.

[FR Doc. E6-11473 Filed 7-18-06; 8:45 am]

BILLING CODE 4910-9X-P